Title 3—

The President

Proclamation 10423 of July 15, 2022

Captive Nations Week, 2022

By the President of the United States of America

A Proclamation

America has firmly set its sights on the ideals of freedom, democracy, equality, liberty, and justice for all. We have never fully lived up to that founding promise, but we have never walked away from it either. These core values have also moved us to support people around the world—especially those who live under oppressive regimes—so that they can freely exercise their rights. As a long-standing democracy, the United States carries a responsibility to show the world how representative governance delivers benefits for all people. During Captive Nations Week, we reaffirm our commitment to supporting and amplifying the voices of the courageous individuals around the world who are striving to advance the universal principles of freedom, democracy, justice, and the rule of law while living under oppression.

Today, defending democracy is more vital and more urgent than ever. Around the world, we bear witness to alarming trends—autocratic nations brutally invading the territory of their neighbors, backsliding of democratic values, intrusive digital surveillance, widespread human rights abuses, and increasing acts of transnational repression. These practices and policies imperil the essential work of activists, journalists, and defenders of human rights, and they oppress average citizens. Increasingly, repressive regimes in Russia, Iran, Belarus, Syria, Cuba, Venezuela, Nicaragua, the Democratic People's Republic of Korea, the People's Republic of China, and elsewhere are seeking to subjugate not only those within their own borders but also those in other countries. They reach across borders to surveil, harass, threaten, and even kill human rights defenders, media workers, and civilians in other sovereign nations. It is an outrage and an affront to the rules-based order that underwrites international peace and security. The world's democracies must stand together and show the strength of our resolve to put an end to these injustices.

With the first Summit for Democracy in December 2021 and the ongoing Year of Action, the United States launched an effort to bring together governments around the world to counter authoritarianism, defend democracy, and safeguard the human rights and fundamental freedoms that foster peace, security, and prosperity. Collectively, we are working to bolster sustainable and independent media, protect and support civil society, and insist on the rule of law and accountability for those who commit abuses.

As Russia relentlessly wages its brutal and unprovoked war against the people of Ukraine, our Nation has led a global response to hold Russia accountable and denounce its inhumanity and its contempt for international law. We honor the valor and sacrifice of the people of Ukraine, who have reminded the world through their courage of the universal yearning for freedom. We will continue to stand with them as they defend their country, their liberty, and their democracy.

During Captive Nations Week, we stand in solidarity with the brave human rights and pro-democracy advocates around the world—many of whom risk their lives each day to protect the rights of others. We remain committed to ensuring that all those who are oppressed around the globe are heard, supported, and protected.

May Captive Nations Week reinvigorate our efforts to live up to our ideals by championing justice, dignity, and freedom for all.

The Congress, by joint resolution approved July 17, 1959 (73 Stat. 212), has authorized and requested the President to issue a proclamation designating the third week of July of each year as “Captive Nations Week.”

NOW, THEREFORE, I, JOSEPH R. BIDEN JR., President of the United States of America, by virtue of the authority vested in me by the Constitution and the laws of the United States, do hereby proclaim July 17 through July 23, 2022, as Captive Nations Week. I call upon all Americans to reaffirm our commitment to championing those around the world who are working, often at great personal risk, to secure liberty and justice for all.

IN WITNESS WHEREOF, I have hereunto set my hand this fifteenth day of July, in the year of our Lord two thousand twenty-two, and of the Independence of the United States of America the two hundred and forty-seventh.

[FR Doc. 2022-15590

Filed 7-19-22; 8:45 am]

Billing code 3395-F2-P